DEPARTMENT OF TRANSPORTATION

Federal Railroad Administration

[Docket Number FRA-2012-0067]

Petition for Waiver of Compliance

In accordance with Part 211 of Title 49 Code of Federal Regulations (CFR), this document provides the public notice that by a document dated July 25, 2012, the Peninsula Corridor Joint Powers Board (PCJPB or Caltrain) has petitioned the Federal Railroad Administration (FRA) for a waiver of compliance from certain provisions of the Federal railroad safety regulations contained at 49 CFR part 215. FRA assigned the petition Docket Number FRA-2012-0067.

Caltrain seeks a waiver of compliance from the Railroad Freight Car Safety Standards contained in 49 CFR 215.303-Stenciling of restricted cars, which requires stenciling on restricted freight cars with a clearly legible letter “R” followed by the basis of the restriction. This request is made for two flat-straight deck cars (Car Numbers JPBX 711 and JPBX 712). Caltrain also requested a Special Approval to continue in service the same cars in accordance with 49 CFR 215.203(c)-Restricted cars. The ages of these cars are more than 50 years from their original construction dates, and therefore, they are restricted per 49 CFR 215.203(a), unless Caltrain receives a Special Approval from FRA.

Caltrain states that the purpose of this petition is to allow Caltrain to operate the subject cars for transportation of decorations during the annual Holiday Trains, which is a successful community supported event. Caltrain stated that the principal business owner of these two cars is PCJPB and the operator and maintainer is TransitAmerica Services, Inc. Each car has been inspected and determined to be safe for continued operation. These two cars were built on August 1, 1953. The maximum speed is 50 mph. The territorial limits are Caltrain Main Track #1 and #2 between Milepost 0 and Milepost 52, as well as Caltrain yard tracks. These two cars will not be interchanged.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate Docket Number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 31, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on November 8, 2012.
Brenda Moscoso,
Director, Office of Safety Analysis.

[FR Doc. 2012-27852 Filed 11-15-12; 8:45 am]

BILLING CODE 4910-06-P